DEPARTMENT OF HOMELAND SECURITY

Coast Guard

[Docket No. USCG-2018-0789]

Information Collection Request to Office of Management and Budget; OMB Control Number: 1625-0069

AGENCY: Coast Guard, DHS.

ACTION: Notice; correction.

SUMMARY: The Coast Guard published a document in the Federal Register on September 6, 2018, concerning a sixty-day notice requesting comments on an Information Collection Request to the Office of Management and Budget, Office of Information and Regulatory Affairs, requesting an extension of its approval for the following collection of information: 1625-0069, Ballast Water Management Reporting and Recordkeeping; without change. The document contained an error in the document title in the header.

FOR FURTHER INFORMATION CONTACT: Mr. Anthony Smith, Office of Information Management, telephone 202-475-3532, or fax 202-372-8405.

SUPPLEMENTARY INFORMATION:

Correction

In the Federal Register of September 6, 2018, in FR Doc. 2018-19327, on page 45266, in the second column, in the header, correct the title of the document to read:

Information Collection Request to Office of Management and Budget; OMB Control Number: 1625-0069

Dated: October 11, 2018.
James D. Roppel,
Acting Chief, U.S. Coast Guard, Office of Information Management.

[FR Doc. 2018-22553 Filed 10-16-18; 8:45 am]

BILLING CODE 9110-04-P